OFFICE OF THE UNITED STATES TRADE REPRESENTATIVE

Negotiation of a U.S.-Singapore Free Trade Agreement

AGENCY: Office of the United States Trade Representative.

ACTION: Notice of public hearings concerning negotiation of a U.S.-Singapore Free Trade Agreement.

SUMMARY: This publication gives notice that the Trade Policy Staff Committee (TPSC) will conduct public hearings concerning negotiation of a U.S.-Singapore Free Trade Agreement.

DATES: A hearing will be held on Monday, April 1, 2002. Parties wishing to testify orally at the hearings must provide written notification of their intention by noon, Monday, March 18, 2002. Parties presenting oral testimony also must submit a written brief by noon Thursday, March 21, 2002.

FOR FURTHER INFORMATION CONTACT: For procedural questions concerning public comments or public hearings, contact Gloria Blue, Executive Secretary, Trade Policy Staff Committee, USTR, 1724 F Street, NW., Washington, DC 20508, telephone (202) 395-3475. All other questions should be directed to Barbara Weisel, Deputy Assistant U.S. Trade Representative for Bilateral Asian Affairs, (202) 395-6813, or Will Martyn, Associate General Counsel, (202) 395-3582.

SUPPLEMENTARY INFORMATION:

1. Background

In November 2000, the United States and Singapore announced that they would enter into negotiations on a bilateral free trade agreement (FTA). Negotiations were launched in December 2000. In early 2001, the Bush Administration reaffirmed the United States' commitment to the negotiations. The parties expect that negotiations will intensify in the coming months.

As described in the previous notice, see 65 FR 71197, the United States and Singapore are seeking to eliminate duties and commercial barriers to bilateral trade in U.S. and Singaporean-origin goods. The agreement is also expected to include provisions on trade in services, investment, trade-related aspects of intellectual property rights, competition, government procurement, electronic commerce, trade-related environmental and labor matters, and other issues.

2. Public Comments and Testimony

In conformity with TPSC regulations (15 CFA part 2003), the Chairman of the TPSC invites written comments and/or oral testimony of interested persons in a public hearing on the economic effects of a U.S.-Singapore FTA.

Comments are invited particularly on:

(a) Economic costs and benefits to U.S. producers and consumers of removal of all tariff barriers to trade between Singapore and the United States, and in the case of articles for which immediate elimination of tariffs is not appropriate, the appropriate staging schedule for such elimination.

(b) Existing nontariff barriers to trade in goods between Singapore and the United States and the economic costs and benefits to U.S. producers and consumers of removing those barriers.

(c) Existing restrictions on investment flows between Singapore and the United States and the costs and benefits to U.S. investors and consumers of eliminating any such restrictions.

(d) Any other matter relevant to the U.S.-Singapore FTA, including any other measures, policies, or practices of the Government of Singapore that should be addressed in the negotiations.

(e) Possible effects on basic workers' rights, working conditions, and living standards, as well as the possible environmental effects. Supplemental comments also are being requested on the scope of the environmental review of the proposed U.S.-Singapore FTA currently under negotiation. Persons who submit comments pursuant to the Federal Register Notice should not resubmit those comments for this proceeding.

3. Requests To Participate in Public Hearings

A hearing will be held on Monday, April 1, 2002 in Room 1 and 2, 1724 F Street, NW., Washington, DC 20508. Hearings will continue on succeeding days if necessary.

Parties wishing to testify orally at the hearings must provide written notification of their intention by noon, Monday, March 18, 2002 to Gloria Blue, Executive Secretary, Trade Policy Staff Committee, Office of the United States Trade Representative. Requests should be made by e-mail to FR0017@ustr.gov or by fax to 202-395-5141, Attn: Gloria Blue. Notification may be submitted by mail to Gloria Blue, 1724 F Street, N.W., Washington, D.C. 20508. However, due to significant delays, we have no means of ensuring its timely receipt. The notification should include (1) the name, address, and telephone number of the person presenting the testimony; and (2) a brief summary of the presentation, including the product(s) (with HTSUS numbers), service sector(s), or other subjects to be discussed.

Parties presenting oral testimony also must submit by noon, Thursday, March 21, 2002 a written brief of that testimony. To ensure prompt receipt, the testimony should also be submitted electronically to FR0018@ustr.gov or by fax to (202) 395-5141, Attn: Gloria Blue (see note above on mail delivery) . Remarks at the hearing should be limited to no more than five minutes to allow for possible questions from the Chairman and the interagency panel.

Those persons not wishing to participate in the hearing may submit written comments no later cob, Friday, April 5, 2002. To ensure prompt receipt, comments should also be submitted by fax to (202) 395-5141, Attn: Gloria Blue or by e-mail to FR0019@ustr.gov (see note above on mail delivery). Comments should state clearly the position taken and should describe with particularity the evidence supporting that position.

Any notifications or briefs should be submitted in accordance with the instructions in section 4, below. The TPSC cannot guarantee receipt or consideration of any submissions that do not conform with those instructions.

4. Requirements for Submissions

Persons submitting a brief in response to this notice by electronic mail should transmit a copy electronically to FR0018@ustr.gov, with “Singapore FTA hearing” in the subject line. USTR encourages the submission of documents in Adobe PDF format, as attachments to an electronic mail. For any document containing business confidential information submitted by electronic transmission, the file name of the business confidential version should begin with the characters “BC-”, and the file name of the public version should begin with the characters “P-”. The “P-” or “BC-” should be followed by the name of the submitter. Persons who make submissions by electronic mail should not provide separate cover letters; information that might appear in a cover letter should be included in the submission itself. Similarly, to the extent possible, any attachments to the submission should be included in the same file as the submission itself, and not as separate files.

Notifications and briefs will be placed in a file open to public inspection pursuant to 15 CFR 2003.5, except confidential business information exempt from public inspection in accordance with 15 CFR 2003.6. Confidential business information submitted in accordance with 15 CFR 2006.6 must be clearly marked “BUSINESS CONFIDENTIAL” at the top of each page, including the cover letter or cover page, and must be accompanied by a nonconfidential summary of the confidential information. All public documents and nonconfidential summaries shall be available for public inspection in the USTR Reading Room. The USTR Reading Room is open to the public from 10 a.m. to 12 noon and 1 p.m. to 4 p.m., Monday through Friday, and is located in Room 3, First Floor, Office of the United States Trade Representative, 1724 F Street, NW, Washington, DC 20508. An appointment to review the file may be made by calling (202) 395-6186.

Carmen Suro-Bredie,
Chairman, Trade Policy Staff Committee.

[FR Doc. 02-4838 Filed 2-27-02; 8:45 am]

BILLING CODE 3190-01-P